DEPARTMENT OF TRANSPORTATION

Maritime Administration

[Docket No. USCG-2013-0363]

Deepwater Port License Application: Liberty Natural Gas LLC, Port Ambrose Deepwater Port

AGENCY: Maritime Administration, Department of Transportation.

ACTION: Notice of intent; notice of public meeting; request for comments; correction.

SUMMARY: The Maritime Administration (MarAd) published a Notice of Intent, Notice of Public Meeting, and Request for Comments regarding the Port Ambrose Deepwater Port License Application in the June 24, 2013, Federal Register. In the DATES section of the notice, MarAd incorrectly described July 14, 2013, as the closing date for receipt of materials in response to the request for comments. This notice corrects that error and clarifies that the closing date for receipt of materials in response to the request for comments is July 23, 2013.

FOR FURTHER INFORMATION CONTACT: Mr. Roddy Bachman, U.S. Coast Guard, telephone: 202-372-1451, email: Roddy.C.Bachman@uscg.mil, or Ms. Tracey Ford, Maritime Administration, telephone: 202-366-0321, email: Tracey.Ford@dot.gov. For questions regarding viewing the Docket, call Ms. Barbara Hairston, Program Manager, Docket Operations, telephone 202-366-9826.

Correction

In the Federal Register of June 24, 2013, in FR Doc. 2013-0363, on page 37878, in the second column, under the section captioned DATES, in the last sentence of the second paragraph replace “July 14, 2013” with “July 23, 2013” so that the sentence reads: “Additionally, materials submitted in response to the request for comments on the license application must reach the Docket Management Facility as detailed below, by July 23, 2013.”

Dated: July 2, 2013.
By Order of the Maritime Administrator.
T. Mitchell Hudson, Jr.,
Assistant Secretary, Maritime Administration.

[FR Doc. 2013-16358 Filed 7-8-13; 8:45 am]

BILLING CODE 4910-81-P